DEPARTMENT OF TRANSPORTATION

Federal Railroad Administration

[Docket Number FRA-2010-0171]

Petition for Waiver of Compliance

In accordance with part 211 of Title 49 of the Code of Federal Regulations (CFR), this document provides the public notice that by a document dated March 31, 2011, the California State Railroad Museum (CSRM) has petitioned the Federal Railroad Administration (FRA) for a waiver of compliance from certain provisions of the Federal railroad safety regulations contained at 49 CFR parts 215, 223 and 224. FRA assigned the petition Docket Number FRA-2010-0171.

Specifically, CSRM seeks a waiver of compliance from the Railroad Freight Car Safety Standards, 49 CFR 215.303, which requires stenciling on restricted freight cars for caboose (UP 25256) and box car (PFE 300001); Safety Glazing Standards, 49 CFR 223.13, which requires safety glazing for caboose (UP 25256); and Reflectorization of Rail Freight Rolling Stock, 49 CFR 224.3, which requires application of reflective materials for freight cars and locomotives for caboose (UP 25256), box car (PFE 300001) and two locomotives (Sacramento Northern No. 402 and Klamath Northern No. 206).

As information, CSRM also requests continued in service of the freight car caboose (UP 25256), box car (PFE 300001) and gondola car (SSRR 6102 and SSRR 6108). The ages of these cars are more than 50 years from their original construction date.

CSRM states that the caboose (UP 25256) was a gift to CSRM. CSRM desires to retain and restore the original paint job, lettering and markings. The caboose is an historical artifact. This car is used for primarily for static display and is seldom moved or switched over highway grade crossings. Likewise, it is seldom, if ever, used for revenue passenger service or night time operations. The required stenciling and application of reflective material would detract from its overall historical appearance. Concerning the glazing requirement, CSRM obtained a recent estimate for twenty-one compliant windows at $4,861.79. CSRM stated that it will incur additional costs associated with the purchase and installation of new window frames. Considering the caboose's use mentioned above, CSRM believes it would not be cost effective or necessary to upgrade the glazing fully to part 223 standards.

CSRM cited the same reason for seeking waivers under 49 CFR 215.303 and 49 CFR 224.1 for box car PFE 30001.

In support of its petition for waiver of 49 CFR 224.1073 and 224.107(b) for locomotives SN 402 and KN 206, CSRM states that it operates weekend passenger excursion and occasional freight and work train service on 3 miles of privately owned track with a 20 miles per hour (mph) speed restriction. Included in this operation are five public grade crossings (25 mph vehicle speed limit) through commercially developed areas. All grade crossings are protected with automatic warning devices with gates and flashing red lights. Operational hours are generally 11 a.m. to 5 p.m. during the months of April to September. There are some night time train operations during the months of October, November and December. These two locomotives are used primarily for yard switching, freight service, and rarely in passenger (excursion) train service, but only in cases of steam locomotive failure.

A copy of the petition, as well as any written communications concerning the petition, is available for review online at http://www.regulations.gov and in person at the Department of Transportation's Docket Operations Facility, 1200 New Jersey Ave., SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by August 15, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC on June 23, 2011.
Robert C. Lauby,
Deputy Associate Administrator for Regulatory & Legislative Operations.

[FR Doc. 2011-16414 Filed 6-29-11; 8:45 am]

BILLING CODE 4910-06-P